FEDERAL RETIREMENT THRIFT INVESTMENT BOARD

Notice of Board Meeting; Correction

AGENCY: Federal Retirement Thrift Investment Board.

ACTION: Notice; correction.

SUMMARY: The FRTIB published a document in the Federal Register of May 13, 2024, concerning a notice of its May 2024 Board Meeting. The notice inadvertently omitted language regarding written statements submitted prior to the meeting.

FOR FURTHER INFORMATION CONTACT: Kimberly Weaver, Director, Office of External Affairs, (202) 942-1640.

SUPPLEMENTARY INFORMATION:

Correction

In the Federal Register of May 13, 2024, in FR Doc 2024-10338, on page 41436, add the following language between the entry for Closed Session and Authority:

Written Statements: Pursuant to 41 CFR 102-3.105(j) and 102-3.140 and section 10(a)(3) of the Federal Advisory Committee Act, interested parties may submit written statements in response to the stated agenda of the meeting, or to the Employee Thrift Advisory Council (ETAC), in general. Individuals may submit their comments to ETACComments@frtib.gov. Written comments or statements received less than 5 days before ETAC's meeting may not be provided to the Committee until its next meeting.

Dated: May 14, 2024.
Dharmesh Vashee,
General Counsel.

[FR Doc. 2024-10911 Filed 5-16-24; 8:45 am]

BILLING CODE P